CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments on the proposed baseline survey for the National Evaluation of Youth Corps. This survey will be completed by individuals applying for participation in a nationally representative sample of Youth Corps programs. Youth Corps are programs that provide young adults, particularly those that are educationally and/or economically disadvantaged, with a combination of work experience, education and community service. Many of the Youth Corps programs receive all or part of their funding from the Corporation.

Copies of the information collection request can be obtained by contacting the office listed in the ADDRESSES section of this notice.

DATES: Written comments must be submitted to the individual and office listed in the ADDRESSES section by March 6, 2006.

ADDRESSES: You may submit comments, identified by the title of the information collection activity, by any of the following methods:

(1) By mail sent to: Corporation for National and Community Service, Attention: Lillian Dote, Program Officer, Office of Research and Policy Development, Room 10901A, 1201 New York Avenue, NW., Washington, DC 20525.

(2) By hand delivery or by courier to the Corporation's mailroom, at Room 8102C, at the street address given in paragraph (1) above, between 9 a.m. and 4 p.m. Monday through Friday, except Federal holidays.

(3) By fax to: (202) 606-3464, Attention: Lillian Dote, Program Officer, Office of Research and Policy Development.

(4) Electronically through the Corporation's e-mail address system: ldote@cns.gov.

FOR FURTHER INFORMATION CONTACT: Lillian Dote, (202) 606-6984, or by e-mail at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background

The Corporation is interested in learning about the effects of national service on its participants. This study will use an experimental design to assess the outcomes associated with participation in national service. The survey will be completed by individuals applying to Youth Corps programs.

Current Action

This is an application for a new data collection.

Type of Review: New.

Agency: Corporation for National and Community Service.

Title: Random Assignment Evaluation of Youth Corps.

OMB Number: None.

Agency Number: None.

Affected Public: Applicants to a nationally representative sample of Youth Corps programs.

Total Respondents: 7,500.

Frequency: On occasion.

Average Time Per Response: Averages 40 minutes.

Estimated Total Burden Hours: 5,000 hours.

Total Burden Cost (capital/startup): None.

Total Burden Cost (operating/maintenance): None.

Comments submitted in response to this notice will be summarized and/or included in the request for Office of Management and Budget approval of the information collection request; they will also become a matter of public record.

Dated: December 28, 2005.
Robert Grimm,
Director, Office of Research and Policy Development.

[FR Doc. E5-8255 Filed 1-3-06; 8:45 am]

BILLING CODE 6050-$$-P